ENVIRONMENTAL PROTECTION AGENCY

40 CFR Part 52

Approval and Promulgation of Implementation Plans

CFR Correction

In Title 40 of the Code of Federal Regulations, part 52 (§§ 52.01 to 52.1018), revised as of July 1, 1999, page 533, § 52.820 is corrected by adding the effective date note following the source note as follows:

§ 52.820 Identification of plan.

* * * * *

Effective Date Note: At 64 FR 25827, May 13, 1999, § 52.820, paragraph (c) was amended by revising the entries for “567-20.2” in Chapter 20, “567-22.1, 567-22.203, and 567-22.300” in Chapter 22, “567-23.1” in Chapter 23, “567-25.1” in Chapter 25, and “567-28.1” in Chapter 28, effective July 12, 1999. For the convenience of the user, the superseded text is set forth as follows:

* * * * *

[FR Doc. 00-55502 Filed 2-8-00; 8:45 am]

BILLING CODE 1505-01-D